DEPARTMENT OF AGRICULTURE

Office of the Secretary

7 CFR Part 6

Withdrawal of Proposed Rule To Establish Licensing for Certain Sugar-Containing Products Under Tariff-Rate Quota

AGENCY: Office of the Secretary, USDA.

ACTION: Notice of withdrawal.

SUMMARY: This document advises the public that the proposed rule is withdrawn based on legal action by the Canadian Government which addressed the principal purposes of the proposed rule by rescinding mandated increases in Canadian exports of certain sugar containing products (SCP) packaged for retail sale.

FOR FURTHER INFORMATION CONTACT: Diana Wanamaker, STOP 1021, 1400 Independence Avenue, SW., Washington, DC 20250-1021, or telephone at (202) 720-1330, or e-mail at Wanamaker@fas.usda.gov.

SUPPLEMENTARY INFORMATION:

Background

Proposed Rule

The proposed rule (RIN 0551-AA-59), published in the Federal Register on March 17, 2000 (65 FR 14478-14484), provides for a licensing system for imports of certain SCP which enter under the tariff-rate quota (TRQ) provided for in Additional U.S. Note 8 to chapter 17 of the Harmonized Tariff Schedule of the United States (HTS). The TRQ limits certain SCP imports entered from October 1 through September 30 in any given year to 64,709,000 kilograms, of which Canada is allocated 59,250,000 kilograms. The proposed rule was published in response to U.S. industry concerns regarding mandated increases in retail packaged SCP exports required under Canada's export permit system which became effective on October 1, 1999. The Department received public comments on the proposed rule from nearly 100 entities (e.g., importers, packers, industry associations, and government officials) on specific provisions of the proposed rule; potential effects on bulk and retail product importers and packers; and costs or unintended market consequences affecting importers, buyers, and participants in the U.S. SCP re-export program.

Canada's Action

On June 20, 2000, the Government of Canada amended its export permit system to rescind the phased increase in export permits allocated for retail packaged SCP shipments to the United States. The amendment also rescinded the Canadian Government's policy of promoting value added SCP exports by altering product availability.

In view of the remedial action taken by the Government of Canada to eliminate its market intervention measures, it is appropriate to withdraw the proposed rule.

Signed at Washington, D.C. on September 19, 2000.
Timothy J. Galvin,
Administrator, Foreign Agricultural Service.

[FR Doc. 00-24544 Filed 9-22-00; 8:45 am]

BILLING CODE 3410-10-P